DEPARTMENT OF TRANSPORTATION

Federal Aviation Administration

Sixtieth Meeting: RTCA Special Committee 186, Automatic Dependent Surveillance—Broadcast (ADS-B)

AGENCY: Federal Aviation Administration (FAA), U.S. Department of Transportation (DOT).

ACTION: Meeting Notice of RTCA Special Committee 186, Automatic Dependent Surveillance—Broadcast (ADS-B).

SUMMARY: The FAA is issuing this notice to advise the public of the sixtieth meeting of the RTCA Special Committee 186, Automatic Dependent Surveillance—Broadcast (ADS-B)

DATES: The meeting will be held March 17-20, 2014 from 9:00 a.m.-5:00 p.m.

ADDRESSES: The meeting will be held at the RTCA Headquarters, 1150 18th Street NW., Suite 910, Washington, DC 20036.

FOR FURTHER INFORMATION CONTACT: The RTCA Secretariat, 1150 18th Street NW., Suite 910, Washington, DC 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 186. The agenda will include the following:

March 17

• All Day, WG-4/EUROCAE SubGroup 3—Application Technical Requirements, ARINC & A4A Rooms

March 18

• All Day, WG-4/EUROCAE SubGroup 3—Application Technical Requirements, ARINC & A4A Rooms

March 19

• All Day, WG-4/EUROCAE SubGroup 3—Application Technical Requirements, ARINC & A4A Rooms

March 20

• JOINT PLENARY SESSION, ARINC & A4A Rooms

March 20

• Chairman's Introductory Remarks

• Review of Meeting Agenda

• Review/Approval of the Fifty-Ninth Meeting Summary, RTCA Paper No. 006-14/SC186-329

• Review/Approval—Revised DO-317B—Minimum Operational Performance Standards (MOPS) for Aircraft Surveillance Applications (ASA) System, RTCA Paper No. 021-14/SC186-330

• Review/Approval—Safety, Performance and Interoperability Requirements Document for CDTI Assisted Visual Separation (CAVS), RTCA Paper No. 025-14/SC186-331

• FAA Surveillance and Broadcast Services (SBS) Program—Status

• EUROCAE WG-51 Report

• Coordination with SC-214/WG-78 for ADS-B Application Data Link Requirements—Status

• Working Group Reports

○ WG-4—Application Technical Requirements

○ Flight Deck-based Interval Management (FIM) SPR/MOPS Status & Schedule

○ Cockpit Assisted Pilot Procedures (CAPP)

• Terms of Reference—status update

• Date, Place and Time of Next Meeting

• New Business

○ ADS-B Compliance Monitor—FAA

• Other Business

• Review Action Items/Work Programs

• Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on February 25, 2014.
Paige Williams,
Management Analyst, Business Operations Group, NextGen, Management Services, Federal Aviation Administration.

[FR Doc. 2014-04622 Filed 2-28-14; 8:45 am]

BILLING CODE 4910-13-P